DEPARTMENT OF AGRICULTURE

Animal and Plant Health Inspection Service

[Docket No. 00-056-1]

Horse Protection Act; List of Designated Qualified Persons

AGENCY: Animal and Plant Health Inspection Service, USDA.

ACTION: Notice.

SUMMARY: This notice advises the public and the horse industry of the organizations that have a Designated Qualified Person program currently certified by the United States Department of Agriculture and the designated qualified persons currently licensed under each certified organization.

FOR FURTHER INFORMATION CONTACT: Dr. Robert A. Willems, Horse Protection Coordinator, APHIS, Animal Care, Unit 304P, 920 Main Campus Drive, Suite 200, Raleigh, NC 27606; (919) 716-5544; or e-mail at: ace@usda.gov.

SUPPLEMENTARY INFORMATION:

Background

The practice known as “soring” causes a horse to suffer pain in any of its limbs for the purpose of affecting its performance in the show ring. In 1970, Congress passed the Horse Protection Act (15 U.S.C. 1821-1831), referred to below as the Act, to eliminate the practice of soring by prohibiting the showing, selling, or transporting of sored horses. Exercising its rulemaking authority under the Act, the Animal and Plant Health Inspection Service (APHIS) enforces regulations in 9 CFR part 11, referred to below as the regulations, that prohibit devices and methods that might sore horses.

In 1979, in response to an amendment to the Act, we established regulations under which show management must, to avoid liability for any sore horses that are shown, appoint individuals trained to conduct preshow inspections to detect or diagnose sored horses. These individuals, referred to as designated qualified persons (DQP's), are trained and licensed under industry-sponsored DQP programs that we certify and monitor. The requirements for DQP programs and licensing of DQP's are set forth in § 11.7 of the regulations.

Section 11.7 also requires that we publish a current list of horse industry organizations that have certified DQP programs and a list of licensed DQP's in the Federal Register at least once each year. The list reads as follows:

Heart of America Walking Horse Association, Route 2, Box 6B, Barry, IL 62312

Licensed DQP's: Calvin Bennett, Chad Campbell, Jennifer Campbell, Ronnie Cansler, Larry Carriger, William Cox, Alton Cureton, Al Forgey, Lawanda Foust, R. Dewey Foust, Robert Foust, Ryan Foust, Fred Gilbany, Billy Grooms, Floyd Hampsmire, Jim Hill, Jim King, Philip Mankin, Stephen Mullins, Scott Skopec, Steve Skopec, Charlie Smart, Robert Smith, Greg Smothers, William Stotler, Jerry Williams, John Williams.

Horse Protection Commission, Inc., P.O. Box 1330, Frazier Park, CA 93225

Licensed DQP's: M. Avila, Donna Benefield, D. Collins, Larry Connelley, J. Hampton, Kathy Hester, Tom Hester, T. Hubbard, Sebastian Kolbusz, Robert Lauer, A. Miller, P. Mitchell, Donna Moore, M. Mullhall, Cherie Pitts, Debbie Rash, Chad Shepherd, J. Singleton, P. Snodgrass, Vernon Stamper, K. Thompson.

Humane Instruction Technocracy, Inc., P.O. Box 549, Monteagle, TN 37356

Licensed DQP's: Randy Adams, Doug Barlow, Cherie Beatty, Jay Kendig, Chris Lynch, Jim Scullin.

Kentucky Walking Horse Association—HIO, 5493 Roseville Road, Glasgow, KY 42141

Licensed DQP's: Les W. Acree, Lee Arnold, Jackie Brown, Ray Burton, Michael Conley, Harold Curry, Eddie Ray Davis, Terry Doyle, James Floyd, John Goldey, James M. Goode, Grover Hatton, Bobby W. Helton, J. Scott Helton, Leon Hester, Dave Jividen, Mike Kluttz, Paul Lasure, Ricky McCammon, Alonzo Napier, Rick O'Neal, Curtis Pittman, Ted Poland, Donald Todd, Arnold Walker, Johnnie Zeller.

Missouri Fox Trotting Horse Breed Association, Inc., P.O. Box 1027, Ava, MO 65608

Licensed DQP's: Julie Alford, Jack Arnold, Beverly Berry, Richard Carr, Kenneth Cochran, Don Daugherty, Gail Geilenfeldt-Freed, Pat Harris, Deb Heggerston, Mark Landers, Edward Lee, Geno Middleton, Jeanie Nichols, David Ogle, Mike Osborn, Gary Pierce, Danny Sublett, Shawn Sublett, Ken Williams, Lee Yates.

National Horse Show Commission, Inc., P.O. Box 167, Shelbyville, TN 37160

Licensed DQP's: Lonnie D. Adkins, Melanie Allen, Nolan Benton, Ray Cairnes, Ronnie Campbell, Harry Chaffin, John Cordell, Joe L. Cunningham, Sr., Jessie Davis, Jerry Eaton, William Edwards, Anthony Eubanks, Craig Evans, James Fields, Bob Flynn, Kathy Givens, Iry Gladney, Jimmy House, Larry R. Landreth, Malcolm G. Luttrell, Earl Melton, Andy Messick, Lonnie Messick, Richard Messick, Cary C. Myers, Harlan Pennington, Dickey Reece, Ricky D. Rutledge, Vernon Shearer, Ronnie Slack, Virginia Stanley, Ricky L. Statham, Charles Thomas, Mark Thomas, Greg Thomason, John F. Wilson.

National Walking Horse Association, P.O. Box 28, Petersburg, TN 37144

Licensed DQP's: Don Bell, Jim Chipman, Murral R. Johnson, Pat Klabusich, Ralph Lakes, Jeff Smith, Mike Stanley, Pamela Wisecup.

Spotted Saddle Horse Breeders and Exhibitors Association, P.O. Box 1046, Shelbyville, TN 37162

Licensed DQP's: Joe “Buck” Beard, Earl M. “Marty” Coleman, Danny Ray Davis, Tommy Derryberry, James “Tony” Edwards, Steven L. Johnson, Mac McGee, Boyd Melton, E. W. Murray, Rickey Phipps, Russell Phipps, Larry “Keith” Smith, Don Woodson.

Western International Walking Horse Association, P.O. Box 2075, Wilsonville, OR 97070-2075

Licensed DQP's: Larry Corbett, Don Douglass, Ross Fox, Dennis Izzi, Terry Jerke, Joe Nelson, Dave Swingley, Kim Swingley, Kelly Smith, Pat Thacker.

Done in Washington, DC, this 19th day of June 2000.
William R. DeHaven,
Acting Administrator, Animal and Plant Health Inspection Service.

[FR Doc. 00-15918 Filed 6-22-00; 8:45 am]

BILLING CODE 3410-34-P